DEPARTMENT OF THE INTERIOR

Fish and Wildlife Service

[FWS-R1-ES-2014-N035; FXES11130100000-145-FF01E00000]

Endangered Wildlife and Plants; Interstate Commerce and Recovery Permit Applications

AGENCY: Fish and Wildlife Service, Interior.

ACTION: Notice of availability; request for comments.

SUMMARY: We, the U.S. Fish and Wildlife Service, invite the public to comment on the following applications for interstate commerce permits and recovery permits to conduct activities with the purpose of enhancing the survival of endangered species. The Endangered Species Act of 1973, as amended (Act), prohibits certain activities with endangered species unless a Federal permit allows such activity. The Act also requires that we invite public comment before issuing such permits.

DATES: To ensure consideration, please send your written comments by April 3, 2014.

ADDRESSES: Program Manager for Restoration and Endangered Species Classification, Ecological Services, U.S. Fish and Wildlife Service, Pacific Regional Office, 911 NE. 11th Avenue, Portland, OR 97232-4181. Please refer to the permit number for the application when submitting comments.

FOR FURTHER INFORMATION CONTACT: Colleen Henson, Fish and Wildlife Biologist, at the above address or by telephone (503-231-6131) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number for the application when submitting comments.

Documents and other information submitted with these applications are available for review by request from the Program Manager for Restoration and Endangered Species Classification at the address listed in the ADDRESSES section of this notice, subject to the requirements of the Privacy Act (5 U.S.C. 552a) and the Freedom of Information Act (5 U.S.C. 552).

Permit Number: TE-28628B

Applicant: Eric Westergard, Jupiter, Florida

The applicant requests an interstate commerce permit to purchase nene geese (Branta sandvicensis) in conjunction with captive propagation for the purpose of enhancing their survival. This notification covers activities conducted by the applicant over the next 5 years.

Permit Number: TE-048385

Applicant: The Nature Conservancy, Eugene, Oregon

The applicant requests a renewal of a recovery permit to take (harass by survey, capture, handle, release, and sacrifice) the Fender's blue butterfly (Icaricia icarioides fenderi) in association with population monitoring and habitat restoration and enhancement activities in Oregon for the purpose of enhancing the species' survival.

Permit Number: TE-826600

Applicant: Michael G. Hadfield, Honolulu, Hawaii

The applicant requests a renewal of a recovery permit to take (capture, measure, mark, attach radio transmitters, collect tissue samples, release, remove from the wild, transport, and captive breed) Oahu tree snails (Achatinella spp.) in conjunction with gathering ecological and life history date, and re-establishing wild populations in Hawaii for the purpose of enhancing the species' survival.

Permit Number: TE-27877B

Applicant: Nathan L. Haan, Seattle, Washington

The applicant requests a new recovery permit to take (survey, monitor, measure, captive rear, conduct experimental release of larvae onto host plants, and conduct laboratory studies) Taylor's checkerspot butterflies (Euphydryas editha taylori) in conjunction with studies to evaluate the relative suitability of various food plants for scientific purposes and for enhancing the species' survival.

Permit Number: TE-28360B

Applicant: Institute of Pacific Islands Forestry, U.S. Forest Service, Hilo, Hawaii

The applicant requests a new recovery permit to remove and reduce to possession (collection of pollen, fruits, seeds, and/or cuttings; conduct pollination trials; and plant propagation) Haplostachys haplostachya (honohono), Portulaca sclerocarpa (po`e), Silene lanceolata (lance-leaf catchfly), Spermolepis hawaiiensis (Hawaiian parsley), Stenogyne angustifolia (creeping mint), and Tetramolopium arenarium ssp. arenarium (Maui tetramolopium) for the purpose of enhancing the species' survival.

Permit Number: TE-09155B

Applicant: Renee Robinette Ha, University of Washington, Seattle, Washington

The applicant requests a permit amendment to take (use captive birds to “lure” wild birds into mist nets) Mariana crow (Corvus kubaryi) in conjunction with survey and population monitoring activities on the island of Rota, Commonwealth of the Northern Mariana Islands, for the purpose of enhancing the species' survival.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: February 25, 2014.
Richard R. Hannan,
Acting Regional Director, Pacific Region, U.S. Fish and Wildlife Service.

[FR Doc. 2014-04694 Filed 3-3-14; 8:45 am]

BILLING CODE 4310-55-P